DEPARTMENT OF ENERGY

Federal Energy Regulatory Commission

[Project No. 2326-053]

Notice of Application Accepted for Filing, Soliciting Comments, Motions To Intervene, and Protests; Great Lakes Hydro America, LLC.

Take notice that the following hydroelectric application has been filed with the Commission and is available for public inspection:

a. Type of Application: Request for a temporary variance from elevation requirements.

b. Project No.: 2326-053.

c. Date Filed: May 23, 2018.

d. Applicant: Great Lakes Hydro America, LLC.

e. Name of Project: Cross Power Hydroelectric Project.

f. Location: The project is located on the Androscoggin River in Coos County, New Hampshire.

g. Filed Pursuant to: Federal Power Act, 16 U.S.C. 791a-825r.

h. Applicant Contact: Ms. Kelly Maloney, Great Lakes Hydro America, LLC, 150 Main Street, Lewiston, ME 04240, (207) 755-5605.

i. FERC Contact: Zeena Aljibury, (202) 502-6065, zeena.aljibury@ferc.gov.

j. Deadline for filing comments, motions to intervene, and protests: June 26, 2018.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2326-053.

k. Description of Request: Great Lakes Hydro America, LLC requests Commission approval for temporary modifications from normal reservoir elevation to perform spillway repairs at the Cross Power Project. The licensee is proposing to lower the headpond to elevation 917.7 feet United Sates Geologic Datum (USGS), six inches below the concrete crest of the spillway (for worker safety), while the flashboards are being installed and removed. Once the flashboard work is completed, the licensee will maintain the headpond at or above the spillway crest elevation of 918.2 feet. Great Lakes Hydro America, LLC is proposing to begin the drawdown starting on July 1, 2018, and continue through September 2018. Great Lakes Hydro America, LLC does not foresee any recreational impacts for this project since the repair activities are limited to a section of the Androscoggin River with limited access.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 12, 2018.
Kimberly D. Bose,
Secretary.

[FR Doc. 2018-12947 Filed 6-15-18; 8:45 am]

BILLING CODE 6717-01-P